DEPARTMENT OF THE INTERIOR

National Park Service

Notice of Inventory Completion: Anchorage Museum at Rasmuson Center, Anchorage, AK

AGENCY: National Park Service, Interior.

ACTION: Notice.

Notice is here given in accordance with the Native American Graves Protection and Repatriation Act (NAGPRA), 25 U.S.C. 3003, of the completion of an inventory of human remains in the possession of Anchorage Museum at Rasmuson Center, Anchorage, AK. The human remains were removed from a site approximately 80 miles from Kodiak, AK.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by the Anchorage Museum at Rasmuson Center professional staff. Consultations with representatives from the Akhiok-Kaguyak, Inc.; Ayakulik, Inc.; Kaguyak Village; Koniag, Inc.; Native Village of Akhiok; Native Village of Larsen Bay; and Uyak, Incorporated have yet to occur.

At an unknown date, human remains representing a minimum of one individual were removed from “about eighty miles from Kodiak, near Amik Bay” in Kodiak Island, AK, by Kathy Whitman of Anchorage. On May 4, 1971, Ms. Whitman donated the human remains to the Anchorage Museum. Sometime after it was collected, masking tape was used to stabilize the lower mandible. No known individual was identified. No associated funerary objects are present.

The Anchorage Museum's records report the human remains were found near “Amik Bay” in Kodiak. According to multiple references, Amik Bay is not recorded as a place name. However, there is an Amik Island at the mouth of Moser Bay, which is in Alitak Bay, and is approximately 80 miles from Kodiak. Although it is uncertain where the human remains were precisely collected and whether they were found without the means of conducting excavations, it is reasonably believed that the location is Alitak Bay and not “Amik Bay,” as stated in the museum accession records. Based on their age, the human remains are reasonably believed to be of Native American descent and closely related to the Alutiiq people. Specifically, the human remains are from an area traditionally used by the members of Akhiok-Kaguyak, Inc.; Native Village of Akhiok; Ayakulik, Inc.; Kaguyak Village; Koniag, Inc.; Native Village of Larsen Bay; and Uyak, Inc.

Officials of the Anchorage Museum at Rasmuson Center have determined that, pursuant to 25 U.S.C. 3001 (9-10), the human remains described above represent the physical remains of one individual of Native American ancestry. Officials of the Anchorage Museum at Rasmuson Center also have determined that, pursuant to 25 U.S.C. 3001 (2), there is a relationship of shared group identity that can be reasonably traced between the Native American human remains and Akhiok-Kaguyak, Inc.; Native Village of Akhiok; Ayakulik, Inc.; Kaguyak Village; Koniag, Inc.; Native Village of Larsen Bay; and Uyak, Inc.

Representatives of any other Indian tribe that believes itself to be culturally affiliated with the human remains should contact Darian LaTocha, Collections Manager, Anchorage Museum at Rasmuson Center, 121 West 7th Avenue, Anchorage, AK 99501, telephone (907) 343-6197, before December 26, 2008. Repatriation of the human remains to the Akhiok-Kaguyak, Inc.; Native Village of Akhiok; Ayakulik, Inc.; Kaguyak Village; Koniag, Inc.; Native Village of Larsen Bay; and Uyak, Inc. may proceed after that date if no additional claimants come forward.

The Anchorage Museum at Rasmuson Center is responsible for notifying Akhiok-Kaguyak, Inc.; Native Village of Akhiok; Ayakulik, Inc.; Kaguyak Village; Koniag, Inc.; Native Village of Larsen Bay; and Uyak, Inc. that this notice has been published.

Dated: October 23, 2008
Sherry Hutt,
Manager, National NAGPRA Program.

[FR Doc. E8-28004 Filed 11-24-08; 8:45 am]

BILLING CODE 4312-50-S